DEPARTMENT OF HEALTH AND HUMAN SERVICES

National Advisory Committee on Children and Disasters and National Biodefense Science Board Public Teleconference

AGENCY: Office of the Assistant Secretary for Preparedness and Response (ASPR), Department of Health and Human Services (HHS).

ACTION: Notice.

SUMMARY: As stipulated by the Federal Advisory Committee Act, the Department of Health and Human Services is hereby giving notice that the National Advisory Committee on Children and Disasters (NACCD) and National Biodefense Science Board (NBSB), also known as the National Preparedness and Response Science Board (NPRSB), will hold a joint public teleconference on September 12, 2018.

DATES: The NBSB and NACCD Joint Public Teleconference is September 12, 2018, from 2:00 p.m. to 3:00 p.m. Eastern Daylight Time (EDT).

ADDRESSES: We encourage members of the public to attend the public meetings. To register, send an email to naccd@hhs.gov with “NACCD Registration” in the subject line, or to nprsb@hhs.gov with “NBSB Registration” in the subject line. Submit your comments to naccd@hhs.gov, nprsb@hhs.gov, the NBSB Contact Form located at https://www.phe.gov/Preparedness/legal/boards/nprsb/Pages/RFNBSBComments.aspx, or the NACCD Contact Form located at https://www.phe.gov/Preparedness/legal/boards/naccd/Pages/contact.aspx. For additional information, visit the NACCD website located at https://www.phe.gov/naccd or the NBSB website located at https://www.phe.gov/nprsb.

SUPPLEMENTARY INFORMATION: Pursuant to the Federal Advisory Committee Act of 1972 (5 U.S.C., Appendix, as amended), and Section 2811A of the Public Health Service (PHS) Act (42 U.S.C. 300hh-10a), as added by Section 103 of the Pandemic and All-Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

The NBSB, also known as the National Preparedness and Response Science Board (NPRSB), is authorized under Section 319M of the Public PHS Act (42 U.S.C. 247d-7f), as added by Section 402 of the Pandemic and All-Hazards Preparedness Act of 2006 and amended by Section 404 of the Pandemic and All-Hazards Preparedness Reauthorization Act. The Board is governed by the Federal Advisory Committee Act (5 U.S.C. App.), which sets forth standards for the formation and use of advisory committees. The NBSB provides expert advice and guidance on scientific, technical, and other matters of special interest to the Department regarding current and future chemical, biological, nuclear, and radiological agents, whether naturally occurring, accidental, or deliberate.

Background: The September 12, 2018, public teleconference of the NBSB and the NACCD is dedicated to the presentation, deliberation, and vote on the ASPR Future Strategies Work Group (FSWG) report. We will post modifications to the agenda on the NACCD and NBSB meeting websites, which are located at https://www.phe.gov/naccd and https://www.phe.gov/nprsb.

Availability of Materials: We will post all teleconference materials prior to the teleconference on September 12, 2018, at the websites located at https://www.phe.gov/naccd and https://www.phe.gov/nprsb.

Procedures for Providing Public Input: Members of the public may attend the public teleconference via a toll-free call-in phone number, which is available on the NACCD and the NBSB websites at https://www.phe.gov/naccd or https://www.phe.gov/nprsb.

We encourage members of the public to provide written comments that are relevant to the NACCD and NBSB public teleconference prior to September 12, 2018. Send written comments by email to naccd@hhs.gov with “NACCD Public Comment” in the subject line or to nprsb@hhs.gov with “NBSB Public Comment” in the subject line. The NACCD and NBSB Chairs will respond to comments received by September 11, 2018, during the public teleconference.

Dated: August 13, 2018.
Robert P. Kadlec,
Assistant Secretary for Preparedness and Response.

[FR Doc. 2018-17896 Filed 8-17-18; 8:45 am]

BILLING CODE P